DEPARTMENT OF ENERGY

Federal Energy Regulatory Commission

[Docket No. RP02-406-000]

Natural Gas Pipeline Company of America; Notice of Filing Final GSR Reconsiliation Report

August 6, 2002.

Take notice that on August 1, 2002, Natural Gas Pipeline Company of America (Natural) tendered for filing its Final Reconciliation Report relating to Gas Supply Realignment (GSR) cost recovery.

Natural states that the purpose of this filing is to comply with section 38.10(b)(3) of the General Terms and Conditions of Natural's FERC Gas Tariff which requires Natural to file a Final Reconciliation Report within 9 months after the close of Natural's GSR extended collection period, which ended on November 30, 2001.

Natural states that copies of the filing are being mailed to its customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed on or before August 13, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20325 Filed 8-9-02; 8:45 am]

BILLING CODE 6717-01-P